DEPARTMENT OF ENERGY

Federal Energy Regulatory Commission

Combined Notice of Filings #1

July 5, 2005.

Take notice that the Commission received the following electric rate filings:

Docket Numbers: ER00-1737-007; ER02-24-006; ER01-468-004; ER00-3621-005; ER00-3620-004; ER00-3619-004; ER00-3746-007; ER02-22-005; ER99-1695-006; ER02-23-007; ER99-1432-007; ER02-26-005; ER96-2869-009; ER02-25-005.

Applicants: Virginia Electric & Power Company; Armstrong Limited Partnership, LLLP; Dominion Energy Marketing, Inc.; Dominion Nuclear Connecticut, Inc.; Dominion Nuclear Marketing I, Inc.; Dominion Nuclear Marketing II, Inc.; Dominion Nuclear Marketing III, L.L.C.; Dresden Energy, LLC; Elwood Energy LLC; Fairless Energy, LLC; Kincaid Generation, L.L.C.; Pleasants Energy, LLC; State Line Energy, L.L.C.; Troy Energy, LLC.

Description: Dominion Resources Services, on behalf of Virginia Electric and Power Company and the Dominion Companies, submits revised market-based tariffs in compliance with the Commission's 5/25/05 order, 111 FERC ¶ 61,241 (2005).

Filed Date: 06/24/2005.

Accession Number: 20050701-0025.

Comment Date: 5 pm Eastern Time on Friday, July 15, 2005.

Docket Numbers: ER02-1084-002.

Applicants: Alcan Power Marketing, Inc.

Description: Alcan Power Marketing, Inc. submits its updated market power analysis.

Filed Date: 06/27/2005.

Accession Number: 20050705-0080.

Comment Date: 5 pm Eastern Time on Monday, July 18, 2005.

Docket Numbers: ER02-1747-002.

Applicants: PPL Shoreham Energy, LLC.

Description: PPL Shoreham Energy, LLC submits its triennial market-based rate update.

Filed Date: 06/28/2005, as supplemented on 06/29/2005.

Accession Number: 20050701-0026.

Comment Date: 5 pm Eastern Time on Tuesday, July 19, 2005.

Docket Numbers: ER02-1749-002.

Applicants: PPL Edgewood Energy, LLC.

Description: PPL Edgewood Energy LLC submits a triennial market-based rate update.

Filed Date: 06/28/2005.

Accession Number: 20050629-0237.

Comment Date: 5 pm Eastern Time on Tuesday, July 19, 2005.

Docket Numbers: ER03-956-004.

Applicants: Duke Energy Marketing America, LLC.

Description: Duke Energy Marketing America, LLC submits revisions to its market-based rate tariff, designated as FERC Gas Tariff, Original Volume 1, to include the changes in status reporting requirement.

Filed Date: 06/28/2005.

Accession Number: 20050629-0217.

Comment Date: 5 pm Eastern Time on Tuesday, July 19, 2005.

Docket Numbers: ER04-947-003; QF85-311-005.

Applicants: POSDEF Power Company, LP.

Description: Notice of change of status and motion to withdraw qualifying status of Acme POSDEF Partners, LP.

Filed Date: 06/02/2005.

Accession Number: 20050609-0109.

Comment Date: 5 pm Eastern Time on Tuesday, July 12, 2005.

Docket Numbers: ER05-1152-000.

Applicants: Virginia Electric and Power Company.

Description: Virginia Electric and Power Co, dba Dominion Virginia Power submits an amended Generator Interconnection and Operating Agreement with Fauquier Landfill Gas, LLC.

Filed Date: 06/28/2005.

Accession Number: 20050629-0241.

Comment Date: 5 pm Eastern Time on Tuesday, July 19, 2005.

Docket Numbers: ER05-1154-000.

Applicants: Southern California Edison Company.

Description: Southern California Edison Company submits revisions to its Transmission Owner Tariff, FERC Electric Tariff, Second Revised Volume No. 6, and to certain existing transmission contracts to reflect a change to its Reliability Services rates.

Filed Date: 06/28/2005.

Accession Number: 20050629-0277.

Comment Date: 5 pm Eastern Time on Tuesday, July 19, 2005.

Docket Numbers: ER05-1155-000.

Applicants: American Electric Power Services Corporation.

Description: American Electric Power Service Corporation, as agent for AEP Texas North Company, submits an executed amendment to the Interconnection Agreement between AEP Texas North Company and Texas-New Mexico Power Company.

Filed Date: 06/28/2005.

Accession Number: 20050629-0245.

Comment Date: 5 pm Eastern Time on Tuesday, July 19, 2005.

Docket Numbers: ER05-1156-000.

Applicants: Illinois Power Company and Union Electric Company

Description: Ameren Services Company, as agent on behalf of Illinois Power Company and Union Electric Company, submits a notice of termination of AmerenIP-AmerenUE Facility Use Agreement, Rate Schedule Nos. 112 and 117, and AmerenIP-AmerenUE Emergency Interchange Agreement, Rate Schedule Nos. 10 and 56.

Filed Date: 06/28/2005.

Accession Number: 20050629-0243.

Comment Date: 5 pm Eastern Time on Tuesday, July 19, 2005.

Docket Numbers: ER05-1157-000.

Applicants: Commonwealth Atlantic Limited Partnership.

Description: Virginia Electric and Power Company submits a notice of termination of Commonwealth Atlantic Limited Partnership's (CALP) Power Purchase and Operating Agreement between CALP and Dominion Virginia Power.

Filed Date: 06/28/2005.

Accession Number: 20050629-0242.

Comment Date: 5 pm Eastern Time on Tuesday, July 19, 2005.

Docket Numbers: ER05-1159-000.

Applicants: Wisconsin Electric Power Company.

Description: Wisconsin Electric Power Company submits its Metering Service Agreement with Wisconsin Public Power Inc. to be effective 4/1/05.

Filed Date: 06/28/2005.

Accession Number: 20050629-0236.

Comment Date: 5 pm Eastern Time on Tuesday, July 19, 2005.

Docket Numbers: ER05-1160-000.

Applicants: Texas—New Mexico Power Company.

Description: Texas—New Mexico Power Company submits a Notice of Cancellation of Market Based Rate Authority.

Filed Date: 06/28/2005.

Accession Number: 20050701-0015.

Comment Date: 5 pm Eastern Time on Tuesday, July 19, 2005.

Docket Numbers: ER05-641-001.

Applicants: Florida Power & Light Company.

Description: Florida Power & Light Company (FPL) submits a fully executed Revised and Restated Agreement for Interconnection with Bio-Energy Partners as an amendment to FPL's 2/24/05 filing in Docket No. ER05-641-000.

Filed Date: 06/28/2005.

Accession Number: 20050701-0014.

Comment Date: 5 pm Eastern Time on Tuesday, July 19, 2005.

Docket Numbers: ER05-685-001.

Applicants: Pittsfield Generating Company, L.P.

Description: Refund Report of Pittsfield Generating Company pursuant to the Commission's order issued 4/14/2005, 111 FERC ¶ 61,033 (2005).

Filed Date: 06/28/2005.

Accession Number: 20050628-5036.

Comment Date: 5 pm Eastern Time on Tuesday, July 19, 2005.

Docket Numbers: ER05-725-002.

Applicants: Deephaven RV Sub Fund Ltd.

Description: Deephaven RV Sub Fund Ltd submits a revised market-based rate tariff in compliance with FERC's 5/26/05 Letter Order in Docket Nos. ER05-725-000 and 001.

Filed Date: 06/27/2005.

Accession Number: 20050701-0008.

Comment Date: 5 pm Eastern Time on Monday, July 18, 2005.

Docket Numbers: ER05-850-001, ER05-851-001 and ER05-852-001.

Applicants: Brownsville Power I, L.L.C.; Caledonia Power I, L.L.C.; Cinergy Capital & Trading, Inc.

Description: Brownsville Power I, LLC, Caledonia Power I, L.L.C. and Cinergy Capital & Trading, Inc. submit revised market-based rate tariffs in compliance with the Commission's 6/16/05 order, 111 FERC ¶ 61,398 (2005).

Filed Date: 06/28/2005.

Accession Number: 20050701-0111.

Comment Date: 5 pm Eastern Time on Tuesday, July 19, 2005.

Docket Numbers: ER05-888-001, ER05-889-002; ER05-890-001; ER05-891-001; ER05-892-001; ER05-893-003.

Applicants: Dominion Energy Brayton Point, LLC; Dominion Energy Kewaunee, Inc.; Dominion Energy Manchester Street, Inc.; Dominion Energy New England, Inc.; Dominion Energy Salem Harbor, LLC; Dominion Retail, Inc.

Description: Dominion Energy Brayton Point, LLC, Dominion Energy Kewaunee, Inc., Dominion Energy Manchester Street, Inc., Dominion Energy New England, Inc., Dominion Energy Salem Harbor, LLC and Dominion Retail, Inc. submit proposed changes to their market-based rates to incorporate the changes in status reporting requirement adopted in Order 652.

Filed Date: 06/24/2005.

Accession Number: 20050701-0011.

Comment Date: 5 pm Eastern Time on Friday, July 15, 2005.

Docket Numbers: ER97-3428-008.

Applicants: Tri-Valley Corporation.

Description: Tri-Valley Corporation reports that they are inactive & have never had any operations.

Filed Date: 06/22/2005.

Accession Number: 20050705-0082.

Comment Date: 5 pm Eastern Time on Wednesday, July 13, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed dockets(s). For assistance with any FERC Online service, please email FERCOnlineSupport@ferc.gov. or call (866) 208-3676 (toll free). For TTY, call (202) 502-8659.

Linda Mitry,
Deputy Secretary.

[FR Doc. E5-3628 Filed 7-8-05; 8:45 am]

BILLING CODE 6717-01-P